ENVIRONMENTAL PROTECTION AGENCY

[ER-FRL-9020-7]

Environmental Impact Statements; Notice of Availability

Responsible Agency: Office of Federal Activities, General Information (202) 564-7146 or http://www.epa.gov/compliance/nepa/.

Weekly receipt of Environmental Impact Statements

Filed 04/20/2015 Through 04/24/2015

Pursuant to 40 CFR 1506.9.

Notice

Section 309(a) of the Clean Air Act requires that EPA make public its comments on EISs issued by other Federal agencies. EPA's comment letters on EISs are available at: http://www.epa.gov/compliance/nepa/eisdata.html.

EIS No. 20150117, Draft EIS, NPS, HI, Hawaii Volcanoes National Park Draft General Management Plan and Wilderness Study, Comment Period Ends: 06/30/2015, Contact: Cindy Orlando 808-985-6026.

EIS No. 20150118, Draft Supplement, USACE, CA, Mather Specific Plan, Comment Period Ends: 06/15/2015, Contact: Mary Pakenham-Walsh 916-557-7718.

EIS No. 20150119, Final EIS, OSM, NM, Four Corners Power Plant and Navajo Mine Energy Project, Review Period Ends: 06/01/2015, Contact: Mychal Yellowman 303-293-5049.

EIS No. 20150120, Final EIS, WAPA, USFWS, 00, PROGRAMMATIC—Upper Great Plains Wind Energy Project, Review Period Ends: 06/01/2015, Contact: Mark Wieringa 720-962-7448.

The U.S. Department of Energy's Western Area Power Administration and the U.S. Department of the Interior's Fish and Wildlife Service are joint lead agencies for the above project.

EIS No. 20150121, Final EIS, BLM, WY, TransWest Express Transmission Project, Review Period Ends: 06/01/2015, Contact: Sharon Knowlton 307-775-6124.

EIS No. 20150122, Final EIS, APHIS, OR, ADOPTION—Double-crested Cormorant Management Plan to Reduce Predation of Juvenile Salmonids in the Columbia River Estuary, Contact: Kevin Christensen 503-326-2346.

The U.S. Department of Agriculture's Animal and Plant Health Inspection Service (APHIS) has adopted the U.S. Army Corps of Engineers FEIS #20150122, filed with the U.S. EPA on 2/25/2015. APHIS was a cooperating agency on this project, therefore, recirculation of the document is not necessary under section 1506.3(c) of CEQ Regulations.

Dated: April 28, 2015.
Cliff Rader,
Director, NEPA Compliance Division, Office of Federal Activities.

[FR Doc. 2015-10218 Filed 4-30-15; 8:45 am]

BILLING CODE 6560-50-P